DEPARTMENT OF ENERGY

Federal Energy Regulatory Commission

Combined Notice of Filings

Take notice that the Commission has received the following Natural Gas Pipeline Rate and Refund Report filings:

Filings Instituting Proceedings

Docket Numbers: RP22-39-001.

Applicants: Destin Pipeline Company, L.L.C.

Description: Destin Pipeline Company, L.L.C. submits tariff filing per 154.205(b): Destin Amended Housekeeping Filing to be effective 11/13/2021.

Filed Date: 10/22/21.

Accession Number: 20211022-5121.

Comments Due: 5 p.m. ET 11/3/21.

Docket Numbers: RP22-85-000.

Applicants: Tennessee Gas Pipeline Company, L.L.C.

Description: § 4(d) Rate Filing: Volume No. 2—Vitol Inc. SP365319 to be effective 11/1/2021.

Filed Date: 10/26/21.

Accession Number: 20211026-5070.

Comment Date: 5 p.m. ET 11/8/21.

Docket Numbers: RP22-86-000.

Applicants: Transcontinental Gas Pipe Line Company, LLC.

Description: § 4(d) Rate Filing: Negotiated Rates—Sundance—Duke Energy Progress—2nd Extension to be effective 11/26/2021.

Filed Date: 10/26/21.

Accession Number: 20211026-5073.

Comment Date: 5 p.m. ET 11/8/21.

Docket Numbers: RP22-87-000.

Applicants: Texas Eastern Transmission, LP.

Description: § 4(d) Rate Filing: Negotiated Rates—ConEd 911792 to be effective 11/1/2021.

Filed Date: 10/26/21.

Accession Number: 20211026-5134.

Comment Date: 5 p.m. ET 11/8/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-40-001.

Applicants: Double E Pipeline, LLC.

Description: Tariff Amendment: Double E Pipeline Tariff Implementation & Compliance Filing Amendment (RP22-40-) to be effective 11/15/2021.

Filed Date: 10/26/21.

Accession Number: 20211026-5135.

Comment Date: 5 p.m. ET 11/8/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2021.
Debbie-Anne A. Reese,
Deputy Secretary.

[FR Doc. 2021-23956 Filed 11-2-21; 8:45 am]

BILLING CODE 6717-01-P